Title 3—

The President

Memorandum of January 7, 2026

Withdrawing the United States From International Organizations, Conventions, and Treaties That Are Contrary to the Interests of the United States

Memorandum for the Heads of Executive Departments and Agencies

By the authority vested in me as President by the Constitution and the laws of the United States of America, I hereby direct:

Section 1. Purpose. (a) On February 4, 2025, I issued Executive Order 14199 (Withdrawing the United States from and Ending Funding to Certain United Nations Organizations and Reviewing United States Support to All International Organizations). That Executive Order directed the Secretary of State, in consultation with the United States Representative to the United Nations, to conduct a review of all international intergovernmental organizations of which the United States is a member and provides any type of funding or other support, and all conventions and treaties to which the United States is a party, to determine which organizations, conventions, and treaties are contrary to the interests of the United States. The Secretary of State has reported his findings as required by Executive Order 14199.

(b) I have considered the· Secretary of State's report and, after deliberating with my Cabinet, have determined that it is contrary to the interests of the United States to remain a member of, participate in, or otherwise provide support to the organizations listed in section 2 of this memorandum.

(c) Consistent with Executive Order 14199 and pursuant to the authority vested in me as President by the Constitution and the laws of the United States of America, I hereby direct all executive departments and agencies (agencies) to take immediate steps to effectuate the withdrawal of the United States from the organizations listed in section 2 of this memorandum as soon as possible. For United Nations entities, withdrawal means ceasing participation in or funding to those entities to the extent permitted by law.

(d) My review of further findings of the Secretary of State remains ongoing.

Sec. 2. Organizations from Which the United States Shall Withdraw. (a) Non-United Nations Organizations:

(i) 24/7 Carbon-Free Energy Compact;

(ii) Colombo Plan Council;

(iii) Commission for Environmental Cooperation;

(iv) Education Cannot Wait;

(v) European Centre of Excellence for Countering Hybrid Threats;

(vi) Forum of European National Highway Research Laboratories;

(vii) Freedom Online Coalition;

(viii) Global Community Engagement and Resilience Fund;

(ix) Global Counterterrorism Forum;

(x) Global Forum on Cyber Expertise;

(xi) Global Forum on Migration and Development;

(xii) Inter-American Institute for Global Change Research;

(xiii) Intergovernmental Forum on Mining, Minerals, Metals, and Sustainable Development;

(xiv) Intergovernmental Panel on Climate Change;

(xv) Intergovernmental Science-Policy Platform on Biodiversity and Ecosystem Services;

(xvi) International Centre for the Study of the Preservation and Restoration of Cultural Property;

(xvii) International Cotton Advisory Committee;

(xviii) International Development Law Organization;

(xix) International Energy Forum;

(xx) International Federation of Arts Councils and Culture Agencies;

(xxi) International Institute for Democracy and Electoral Assistance;

(xxii) International Institute for Justice and the Rule of Law;

(xxiii) International Lead and Zinc Study Group;

(xxiv) International Renewable Energy Agency;

(xxv) International Solar Alliance;

(xxvi) International Tropical Timber Organization;

(xxvii) International Union for Conservation of Nature;

(xxviii) Pan American Institute of Geography and History;

(xxix) Partnership for Atlantic Cooperation;

(xxx) Regional Cooperation Agreement on Combatting Piracy and Armed Robbery against Ships in Asia;

(xxxi) Regional Cooperation Council;

(xxxii) Renewable Energy Policy Network for the 21st Century;

(xxxiii) Science and Technology Center in Ukraine;

(xxxiv) Secretariat of the Pacific Regional Environment Programme; and

(xxxv) Venice Commission of the Council of Europe.

(b) United Nations (UN) Organizations:

(i) Department of Economic and Social Affairs;

(ii) UN Economic and Social Council (ECOSOC)—Economic Commission for Africa;

(iii) ECOSOC—Economic Commission for Latin America and the Caribbean;

(iv) ECOSOC—Economic and Social Commission for Asia and the Pacific;

(v) ECOSOC—Economic and Social Commission for Western Asia;

(vi) International Law Commission;

(vii) International Residual Mechanism for Criminal Tribunals;

(viii) International Trade Centre;

(ix) Office of the Special Adviser on Africa;

(x) Office of the Special Representative of the Secretary General for Children in Armed Conflict;

(xi) Office of the Special Representative of the Secretary-General on Sexual Violence in Conflict;

(xii) Office of the Special Representative of the Secretary-General on Violence Against Children;

(xiii) Peacebuilding Commission;

(xiv) Peacebuilding Fund;

(xv) Permanent Forum on People of African Descent;

(xvi) UN Alliance of Civilizations;

(xvii) UN Collaborative Programme on Reducing Emissions from Deforestation and Forest Degradation in Developing Countries;

(xviii) UN Conference on Trade and Development;

(xix) UN Democracy Fund;

(xx) UN Energy;

(xxi) UN Entity for Gender Equality and the Empowerment of Women;

(xxii) UN Framework Convention on Climate Change;

(xxiii) UN Human Settlements Programme;

(xxiv) UN Institute for Training and Research;

(xxv) UN Oceans;

(xxvi) UN Population Fund;

(xxvii) UN Register of Conventional Arms;

(xxviii) UN System Chief Executives Board for Coordination;

(xxix) UN System Staff College;

(xxx) UN Water; and

(xxxi) UN University.

Sec. 3. Implementation Guidance. The Secretary of State shall provide additional guidance as needed to agencies when implementing this memorandum.

Sec. 4. General Provisions. (a) Nothing in this memorandum shall be construed to impair or otherwise affect:

(i) the authority granted by law to an executive department or agency, or the head thereof; or

(ii) the functions of the Director of the Office of Management and Budget relating to budgetary, administrative, or legislative proposals.

(b) This memorandum shall be implemented consistent with applicable law and subject to the availability of appropriations.

(c) This memorandum is not intended to, and does not, create any right or benefit, substantive or procedural, enforceable at law or in equity by any party against the United States, its departments, agencies, or entities, its officers, employees, or agents, or any other person.

(d) The Secretary of State is authorized and directed to publish this memorandum in the Federal Register.

THE WHITE HOUSE,

Washington, January 7, 2026

[FR Doc. 2026-00976

Filed 1-15-26; 2:00 pm]

Billing code 4710-10-P